DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Voluntary Self-Disclosure of Antiboycott Violations.

Form Number(s): None.

OMB Control Number: 0694-0132.

Type of Request: Regular submission.

Burden Hours: 1,280.

Number of Respondents: 10.

Average Hours Per Response: 10 to 600 hours.

Needs and Uses: This collection of information supports enforcement of the Antiboycott provisions for the Export Administration Regulations (EAR) by providing a method for industry to voluntarily self-disclose antiboycott violations.

Affected Public: Business and other for-profit organizations.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285 or via the Internet at David_Rostker@omb.eop.gov.

Dated: October 19, 2007.
Gwellnar Banks,
Management Analyst, Office of the Chief Information Officer.

[FR Doc. E7-20989 Filed 10-24-07; 8:45 am]

BILLING CODE 3510-DT-P